DEPARTMENT OF DEFENSE

Defense Acquisition Regulations System

48 CFR Parts 212, 222, and 252

RIN 0750-AF11

Defense Federal Acquisition Regulation Supplement; Combating Trafficking in Persons

[DFARS Case 2004-D017]

AGENCY: Defense Acquisition Regulations System, Department of Defense (DoD).

ACTION: Interim rule; extension of comment period.

SUMMARY: DoD is extending the comment period for the interim rule published at 71 FR 62560 on October 26, 2006. The rule amended the Defense Federal Acquisition Regulation Supplement (DFARS) to address the prohibition on DoD contractor activities that support or promote trafficking in persons. The comment period is extended to provide additional time for interested parties to review the DFARS changes.

DATES: The ending date for submission of comments is extended to January 25, 2007.

FOR FURTHER INFORMATION CONTACT: Ms. Felisha Hitt, Defense Acquisition Regulations System, OUSD (AT&L) DPAP (DARS), IMD 3C132, 3062 Defense Pentagon, Washington, DC 20301-3062. Telephone (703) 602-0310; facsimile (703) 602-0350. Please cite DFARS Case 2004-D017.

Michele P. Peterson,
Editor, Defense Acquisition Regulations System.

[FR Doc. E6-20891 Filed 12-7-06; 8:45 am]

BILLING CODE 5001-08-P